DEPARTMENT OF THE INTERIOR

Bureau of Land Management

[LLORW00000.10200000.DF0000.LXSSH1080000.20X.HAG 21-0028]

Notice of Public Meeting for the San Juan Islands National Monument Advisory Committee, Washington

AGENCY: Bureau of Land Management, Interior.

ACTION: Notice of public meeting.

SUMMARY: In accordance with the Federal Land Policy and Management Act and the Federal Advisory Committee Act of 1972 and the U.S. Department of the Interior, Bureau of Land Management (BLM), the San Juan Islands National Monument Advisory Committee (MAC) will meet as follows.

DATES: The MAC will hold a public meeting on Wednesday, May 12, 2021. This meeting will run from 9:00 a.m. to 3:30 p.m. A public comment period will be available in the afternoon.

ADDRESSES: The meeting will be held online using the Zoom meeting application, or at the Lopez Community Center for the Arts, 204 Village Road, Lopez Island, WA 98261, if allowed. Those wishing to participate in the Zoom meeting can contact the Spokane District Public Affairs Officer, Jeff Clark, for the link or call-in number (see FOR FURTHER INFORMATION CONTACT). The link and final agenda will also be provided on the BLM San Juan Islands National Monument Advisory Committee website at https://www.blm.gov/get-involved/resource-advisory-council/near-you/oregon-washington/san-juan-islands-mac and on social media accounts. The public may send written comments to the MAC at BLM Spokane District, Attn: MAC, 1103 N Fancher, Spokane Valley, WA 99212.

FOR FURTHER INFORMATION CONTACT: Jeff Clark, Spokane District Public Affairs Officer, 1103 N Fancher, Spokane Valley, WA 99212, (509) 536-1297, or jeffclark@blm.gov. Persons who use a telecommunications device for the deaf (TDD) may call the Federal Relay Service at 1-800-877-8339 to contact Mr. Clark during normal business hours. This service is available 24 hours a day, 7 days a week, to leave a message or question. You will receive a reply during normal business hours.

SUPPLEMENTARY INFORMATION: The San Juan Islands MAC is comprised of 12 members representing a wide array of interests, including recreation, Tribal, education, environmental organizations, and landowners. The May meeting will begin at 9:00 a.m. with a welcome of the new MAC members. After introductions, the members will spend time reviewing the Proposed Resource Management Plan and Environmental Impact Statement and clarifying items from the BLM. This discussion/review will continue until a working lunch at noon. At noon, members of the public will have the opportunity to make comments to the MAC during a 1-hour public comment period. The review will continue after the public comment period, if necessary. The next topic will be to consider opportunities for the MAC to support implementation of the management plan once the record of decision is signed. A roundtable discussion on local landscape status over the last 3 years by each of the committee members and by the BLM will be the next agenda item. The MAC will adjourn no later than 3:30 p.m. All advisory council meetings are open to the public. Persons wishing to make comments during the public comment period should register in person with the BLM by 11:00 a.m. on the meeting day at the meeting location. Depending on the number of persons wishing to comment, the length of comments may be limited. The BLM appreciates all comments.

(Authority: 43 CFR 1784.4-2)

Kurt Pindel,
Spokane District Manager.

[FR Doc. 2021-07382 Filed 4-9-21; 8:45 am]

BILLING CODE 4310-33-P